DEPARTMENT OF HOUSING AND URBAN DEVELOPMENT

[Docket No. FR-4739-34]

Notice of Proposed Information Collection: Comment Request; Insurance for Home Equity Conversion Mortgages, Residential Loan Application for Reverse Mortgages

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: September 30, 2002.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410.

FOR FURTHER INFORMATION CONTACT: Vance Morris, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Insurance for Home Equity Conversion Mortgages (HECM), Residential Loan Application for Reverse Mortgages.

OMB Control Number, if applicable: 2502-0524.

Description of the need for the information and proposed use: HUD's collection of this information permits lenders to use this streamlined application as an optional form to gather borrower data to determine eligibility for the HECM program. The Department will gather the data for reports to Congress regarding the program.

Agency form numbers, if applicable: HUD-92900-A, HUD-92900-B, & Fannie Mae Form 1003.

Estimation of the total numbers of hours needed to prepare the information collection including number of respondents, frequency of response, and hours of response: The estimated number of respondents is 5,000, frequency of response is on occasion, the estimated time needed to prepare the response is one hour, the total annual responses are 5,000, and the estimated annual burden hours requested is 5,000.

Status of the proposed information collection: Reinstatement, without change, of a previously approved collection for which approval has expired.

Authority: The Paperwork Reduction Act of 1995, 44 U.S.C., Chapter 35, as amended.

Dated: July 24, 2002
Sean G. Cassidy,
General Deputy Assistant Secretary for Housing—Deputy Federal Housing Commissioner.

[FR Doc. 02-19377 Filed 7-31-02; 8:45 am]

BILLING CODE 4210-27-M